DEPARTMENT OF VETERANS AFFAIRS

Advisory Committee on the Readjustment of Veterans, Notice of Meeting

The Department of Veterans Affairs (VA) gives notice under the Federal Advisory Committee Act, 5 U.S.C., app. 2., that the Advisory Committee on the Readjustment of Veterans will meet virtually on February 8, 2022-February 10, 2022. The sessions will begin and end as follows:

Dates: | Times:
Tuesday, February 8, 2022 | 1:00 p.m. to 5:00 p.m. Eastern Standard Time (EST).
Wednesday, February 9, 2022 | 1:00 p.m. to 5:00 p.m. EST.
Thursday, February 10, 2022 | 1:00 p.m. to 5:00 p.m. EST.

Sessions are open to the public, except when the Committee is conducting tours of VA facilities, and participating in off-site events. Tours of VA facilities are closed to protect Veterans' privacy and personal information, in accordance with 5 U.S.C Sec. 552b(c)(6).

Pursuant to 41 CFR 102-3.150, notice of this meeting is provided less than fifteen (15) calendar days prior to the date of the meeting as a resurgence in the COVID-19 pandemic has impacted availability of presenters, Committee Members, VA facility leadership, caused travel disruptions and altered scheduling dates. These exceptional circumstances were out of the control of the Agency and Committee but directly impacted the ability to definitively determine meeting dates and also meet the 15-day notice period. Accordingly, and upon a finding that exceptional circumstances exist that warrant providing notice less than 15 calendar days prior to the meeting of the Committee, the Advisory Committee Management Officer waives the notification requirements pursuant to 41 CFR 102-3.150(b).

The purpose of the Committee is to advise the VA regarding the provision by VA of benefits and services to assist Veterans in the readjustment to civilian life. In carrying out this duty, the Committee shall take into account the needs of Veterans who served in combat theaters of operation. The Committee assembles, reviews, and assesses information relating to the needs of Veterans readjusting to civilian life and the effectiveness of VA services in assisting Veterans in that readjustment.

The Committee, comprised of 13 subject matter experts, advises the Secretary, through the VA Readjustment Counseling Service, on the provision by VA of benefits and services to assist Veterans in the readjustment to civilian life. In carrying out this duty, the Committee assembles, reviews, and assesses information relating to the needs of Veterans readjusting to civilian life and the effectiveness of VA services in assisting Veterans in that readjustment, specifically taking into account the needs of Veterans who served in combat theaters of operation.

On February 8, 2022, the agenda will include a virtual site visit of the Jacksonville, NC Vet Center at 110A Branchwood Drive, Jacksonville, NC, this field visit on February 8, 2022, from 1:00 p.m.-3:00 p.m. EST, is closed to the public in accordance with 5 U.S.C. 552b(c)(6). Exemption 6 permits the Committee to close a meeting that is likely to disclose information of a personal nature where disclosure would constitute a clearly unwarranted invasion of personal privacy, which will most likely be the case throughout this field visit. The remainder of the meeting will include a meeting with the Fayetteville North Carolina VA Medical Center leadership team, and an overview presentation of Readjustment Counseling Service Communications Office Outreach efforts from 3:00 p.m.-4:00 p.m. EST, and a period of open discussion amongst committee members following.

On February 9, 2022, the agenda will include a visit with the Readjustment Counseling team of the Jacksonville, NC Vet Center, this field visit on 2/9/2022 from 1:00 p.m.-2:00 p.m. EST is closed to the public in accordance with 5 U.S.C. 552b(c)(6). Exemption 6 permits the Committee to close a meeting that is likely to disclose information of a personal nature where disclosure would constitute a clearly unwarranted invasion of personal privacy, which will most likely be the case throughout this field visit. The remainder of the meeting will include a briefing from the VA National Center for Veterans Analysis and Statistics from 2:00 p.m.-3:00 p.m. EST, and an overview of the Veteran Experience Office CVEB program by the VA Veteran Experience Office from 3:00 p.m.-4:00 p.m. EST.

On February 10, 2022 the agenda will be solely focused on writing the committees 22nd annual report, which will be accomplished through breakout groups and open full committee discussion.

No time will be allotted for receiving oral comments from the public; however, the committee will accept written comments from interested parties on issues outlined in the meeting agenda or other issues regarding the readjustment of Veterans. Parties should contact Mr. Richard Barbato, via email at VHARCSPlanningPolicy@va.gov or by mail at Department of Veterans Affairs, Readjustment Counseling Service (10RCS), 810 Vermont Avenue, Washington, DC 20420.

Any member of the public seeking additional information should contact Ms. Moravy at the email addressed noted above. For any members of the public that wish to attend the open portions of the virtual meeting, they may use the following WebEx link(s):

Tuesday, February 8, 2022

Meeting link: https://veteransaffairs.webex.com/webappng/sites/veteransaffairs/meeting/download/329e176020c24084b21c86bb49ec7349?siteurl=veteransaffairs&MTID=mcc4a2194a8aaf46ea36fae44f0bec0d6.

Tap to join from a mobile device (attendees only): +14043971596,, 27617207286## USA Toll Number.

Join by phone: 14043971596 USA Toll Number, Global call-in numbers | Toll-free calling restrictions.

Join by phone for non-VA Staff: 18335580712 USA Toll-free Number.

Wednesday, February 9, 2022

Meeting link: https://veteransaffairs.webex.com/webappng/sites/veteransaffairs/meeting/download/8b6fbc6b57b24bb8950bd560285df151?siteurl=veteransaffairs&MTID=m9855adfff1a298e5e7dc697bc5a36611.

Tap to join from a mobile device (attendees only): +14043971596,, 27638719703## USA Toll Number.

Join by phone: 14043971596 USA Toll Number.

Thursday, February 10, 2022

Meeting link: https://veteransaffairs.webex.com/webappng/sites/veteransaffairs/meeting/download/cf35794c3adb43dd870a662db8c3ddd3?siteurl=veteransaffairs&MTID=m0b498c8be1968ec41d6924f5178b76e6

Tap to join from a mobile device (attendees only): +14043971596,, 27623428576## USA Toll Number.

Join by phone: 14043971596 USA Toll Number, Global call-in numbers | Toll-free calling restrictions.

Join by phone for non-VA Staff: 18335580712 USA Toll-free Number.

Dated: January 28, 2022.
Jelessa M. Burney,
Federal Advisory Committee Management Officer.

[FR Doc. 2022-02146 Filed 2-2-22; 8:45 am]

BILLING CODE P